DEPARTMENT OF COMMERCE

National Oceanic and Atmospheric Administration

RIN 0648-XB49

U.S. Climate Change Science Program Synthesis and Assessment Product Draft Report 4.6

AGENCY: National Oceanic and Atmospheric Administration (NOAA), Department of Commerce.

ACTION: Notice of availability and request for public comments.

SUMMARY: The National Oceanic and Atmospheric Administration publish this notice to announce the availability for public comments of the draft Report for one of the U.S. Climate Change Science Program (CCSP) Synthesis and Assessment Products (SAP). This draft Report of SAP 4.6 addresses the following CCSP Topic: “Analyses of the Effects of Global Change on Human Health, Welfare, and Human Systems” and analyzes the effects of global change, especially the effects of climate variability and change, along with the associated impacts of land use and population dynamics on three broad dimensions of the human condition: human health, human settlements, and human welfare. After consideration of comments received, a revised Report along with the comments received will be published on the CCSP web site.

DATES: Comments must be received by September 4, 2007.

ADDRESSES: The draft Report is posted on the SAP 4.6 webpage of the CCSP Program Office web site. The web address to access the draft Report is: www.climatescience.gov/Library/sap/sap4-6/default.php

Detailed instructions for making comments on the draft Report are provided on the SAP 4.6 webpage (see link here). Comments should be prepared in accordance with these instructions.

FOR FURTHER INFORMATION CONTACT: Dr. Fabien Laurier, Climate Change Science Program Office, 1717 Pennsylvania Avenue NW, Suite 250, Washington, DC 20006, Telephone: (202) 419 3481.

SUPPLEMENTARY INFORMATION: The CCSP was established by the President in 2002 to coordinate and integrate scientific research on global change and climate change sponsored by 13 participating departments and agencies of the U.S. Government. The CCSP is charged with preparing information resources that support climate-related discussions and decisions, including scientific synthesis and assessment analyses that support evaluation of important policy issues. SAP 4.6 addresses the affects of global change on human health, human welfare, and human settlements, and is designed to serve decision makers interested in using science to inform adaptations to the impacts of climate variability and change.

Dated: July 16, 2007.
William J. Brennan,
Deputy Assistant Secretary of Commerce for International Affairs, and Acting Director, Climate Change Science Program.

[FR Doc. E7-14091 Filed 7-19-07; 8:45 am]

BILLING CODE 3510-12-S